DEPARTMENT OF LABOR

Employment and Training Administration

[TA-W-61,698; TA-W-61,698A]

Dan River, Inc., 1325 Avenue of the Americas, New York, NY; Including an Employee in Support of Dan River, Inc., 1325 Avenue of the Americas, New York, NY Operating Out of Randolph, NJ; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on July 13, 2007, applicable to workers of Dan River, Inc., 1325 Avenue of the Americas, New York, New York. The notice will be published soon in the Federal Register.

At the request of the State agency, the Department reviewed the certification for workers of the subject firm.

New information shows that a worker separation (Mr. Jeffrey Connors) has occurred involving an employee in support of and under the control of the New York, New York facility of Dan River, Inc., 1325 Avenue of the Americas, New York, New York operating out of Randolph, New Jersey.

Based on these findings, the Department is amending this certification to include an employee in support of 1325 Avenue of the Americas, New York, New York facility operating out of Randolph, New Jersey.

The intent of the Department's certification is to include all workers of Dan River, Inc., 1325 Avenue of the Americas, New York, New York who were adversely affected by a shift in production to Mexico.

The amended notice applicable to TA-W-61,698 is hereby issued as follows:

“All workers of Dan River, Inc., 1325 Avenue of the Americas, New York, New York (TA-W-61,698), including an employee in support of Dan River, Inc., 1325 Avenue of the Americas, New York, New York operating out of Randolph, New Jersey (TA-W-61,698A), who became totally or partially separated from employment on or after November 6, 2006, through July 13, 2009, are eligible to apply for adjustment assistance under Section 223 of the Trade Act of 1974, and are also eligible to apply for alternative trade adjustment assistance under Section 246 of the Trade Act of 1974.”

Signed at Washington, DC, this 27th day of May 2008.
Richard Church,
Certifying Officer, Division of Trade Adjustment Assistance.

[FR Doc. E8-12327 Filed 6-2-08; 8:45 am]

BILLING CODE 4510-FN-P